EXPORT-IMPORT BANK OF THE UNITED STATES

Economic Impact Policy

This notice is to inform the public that the Export-Import Bank of the United States has received an application for a $14 million loan guarantee to support the export of approximately $13 million worth of gas turbine generator set and services to Russia. The U.S. exports will enable the Russian company to produce approximately 475,000 cubic meters of medium density fiberboard per year. Available information indicates that the majority of this new medium density fiberboard production will be sold in Russia with the remainder sold in the Ukraine and other CIS countries. Interested parties may submit comments on this transaction by email to economic.impact@exim.gov or by mail to 811 Vermont Avenue NW., Room 442, Washington, DC 20571, within 14 days of the date this notice appears in the Federal Register, inclusive of the date of this notification.

Kathryn Hoff-Patrinos,
Deputy General Counsel.

[FR Doc. 2012-26614 Filed 10-29-12; 8:45 am]

BILLING CODE 6690-01-P